DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case:

Tirunelveli S. Ramalingam, Ph.D., California Institute of Technology: Based on the report of an investigation conducted by the California Institute of Technology (CIT Report) and additional analysis conducted by ORI in its oversight review, the U.S. Public Health Service (PHS) found that Tirunelveli S. Ramalingam, Ph.D., former Postdoctoral Fellow, Division of Biology at CIT, engaged in scientific misconduct in research supported by National Institute for Allergy and Infectious Disease (NIAID), National Institutes of Health (NIH), grant 1 R01 AI41239-01, “Neonatal Fc receptor/IgG interaction.”

Specifically, PHS found that:

A. Respondent plagiarized Figures 6a and 7a from: Dustin, M.L. “Adhesive Bond Dynamics in Contacts between T Lymphocytes and Glass-supported Planar Bilayers Reconstituted with the Immunoglobulin-related Adhesion Molecule CD58.” J. Biol. Chem. 272:15782-15788, 1997 (hereafter referred to as the “JBC 1997 paper”).

B. Respondent also falsified Figures 6a and 7a from the JBC 1997 paper by electronically manipulating the images and representing them as a different experiment in Figure 6 of NIH grant application 2 R01 AI41239-06A1, entitled “Analysis of the Neonatal Fc Receptor/IgG Interaction.”

C. Respondent fabricated timed experimental data obtained from using the fluorescense recovery after photobleaching (FRAP) technique in Figure 7 (upper and lower panels) in a draft manuscript: “IgG can bridge between adjacent membranes containing the neonatal Fc receptor (FcRn): Implications for FcRn-mediated transport of IgG.”

The draft manuscript was not submitted for publication; however, due to the laboratory's inability to verify scientific experiments conducted by Dr. Ramalingam, two other papers published in Nature Cell Biology in 2000 and EMBO Journal in 2002 were retracted.

Dr. Ramalingam has entered into a Voluntary Exclusion Agreement (Agreement ) in which he has voluntarily agreed for a period of three (3) years, beginning on July 2, 2004:

(1) To exclude himself from any contracting or subcontracting with any agency of the United States Government and from eligibility or involvement in, nonprocurement programs of the United States Government referred to as “covered transactions” as defined in the debarment regulations at 45 CFR part 76; and

(2) To exclude himself from serving in any advisory capacity to the PHS including but not limited to service on any PHS advisory committee, board, and/or peer review committee, or as a consultant.

FOR FURTHER INFORMATION CONTACT: Director, Division of Investigative Oversight, Office of Research Integrity, 1101 Wootton Parkway, Suite 750, Rockville, MD 20852, (301) 443-5330.

Chris B. Pascal,
Director, Office of Research Integrity.

[FR Doc. 04-16442 Filed 7-19-04; 8:45 am]

BILLING CODE 4150-31-P